DEPARTMENT OF HEALTH AND HUMAN SERVICES

Centers for Disease Control and Prevention

[30DAY-43-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Assessing the Effectiveness of Community-Based Organizations (CBOs) for the Delivery of HIV Prevention Intervention: Process Evaluation—New—Centers for Disease Control and Prevention (CDC), National Center for HIV, STD, and TB Prevention (NCHSTP) proposes to evaluate HIV prevention programs in community-based organizations (CBOs) through a quarterly and annual reporting system. This evaluation is necessary to understand the impact of CDC's expenditures and efforts to support CBOs, and for modifying and improving the prevention efforts of CBOs. This data collection will provide CDC with standardized data which will allow CDC to (a) determine the extent to which HIV prevention efforts have contributed to a reduction in HIV transmission nationally; (b) improve programs to better meet the goal of reducing HIV transmission; (c) help focus technical assistance and support; and (d) be accountable to stakeholders by informing them of progress made in HIV prevention nationwide. CDC currently funds 181 CBOs.

Each CBO will be asked to report on the following types of interventions that it has implemented (a) individual level interventions; (b) group level interventions; (c) street and community outreach; (d) prevention case management; (e) partner counseling and referral services; (f) health communications/public information; (g) community level interventions; and (h) HIV antibody counseling and testing.

The total response burden for this data collection is 1,810 hours.

Respondents | Number of respondents | Number of responses | Avg. burden per response (in hrs.)
Intervention Plan | 181 | 1 | 2
Process Monitoring | 181 | 4 | 2

Dated: July 12, 2001.
Nancy Cheal,
Acting Associate Director for Policy, Planning, and Evaluation, Centers for Disease Control and Prevention (CDC).

[FR Doc. 01-18354 Filed 7-23-01; 8:45 am]

BILLING CODE 4163-18-P